DEPARTMENT OF STATE

[PUBLIC NOTICE 5649]

Culturally Significant Objects Imported for Exhibition; Determinations: “Pissarro: Creating the Impressionist Landscape”

Summary: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Pissarro: Creating the Impressionist Landscape”, imported from abroad for temporary exhibition within the United States, are of cultural significance. The objects are imported pursuant to loan agreements with the foreign owners or custodians. I also determine that the exhibition or display of the exhibit objects at the Baltimore Museum of Art, Baltimore, Maryland, beginning on or about February 11, 2007 until on or about May 13, 2007, the Milwaukee Museum of Art, Milwaukee, Wisconsin, beginning on or about June 10, 2007 until on or about September 9, 2007, and the Memphis Brooks Museum of Art, Memphis, Tennessee, beginning on or about October 7, 2007 until on or about January 6, 2008, and at possible additional venues yet to be determined, is in the national interest. Public Notice of these Determinations is ordered to be published in the Federal Register.

For Further Information Contact: For further information, including a list of the exhibit objects, contact Wolodymyr Sulzynsky, Attorney-Adviser, Office of the Legal Adviser, U.S. Department of State (telephone: (202) 453-8050). The address is U.S. Department of State, SA-44, 301 4th Street, SW. Room 700, Washington, DC 20547-0001.

Dated: December 12, 2006.
C. Miller Crouch,
Principal Deputy Assistant Secretary for Educational and Cultural Affairs, Department of State.

[FR Doc. E6-21728 Filed 12-19-06; 8:45 am]

BILLING CODE 4710-05-P